DEPARTMENT OF THE INTERIOR

Office of the Secretary

[XXXD5141GM DN18000000 DGM000000.000000 6100.257Z0]

Proposed Appointment to the National Indian Gaming Commission

ACTION: Notice.

SUMMARY: The Indian Gaming Regulatory Act provides for a three-person National Indian Gaming Commission. One member, the Chair, is appointed by the President with the advice and consent of the Senate. Two associate members are appointed by the Secretary of the Interior. Before appointing members, the Secretary is required to provide public notice of a proposed appointment and allow a comment period. Notice is hereby given of the proposed appointment of Jonodev Chaudhuri as an associate member of the National Indian Gaming Commission for a term of 3 years.

DATES: Comments must be received before September 3, 2013.

ADDRESSES: Comments should be submitted to the Director, Office of the Executive Secretariat, United States Department of the Interior, 1849 C Street NW., Mail Stop 7229, Washington, DC 20240.

FOR FURTHER INFORMATION CONTACT: Eric Shepard, National Indian Gaming Commission, 1441 L Street NW., Suite 9100, Washington, DC 20005; telephone (202) 754-2565.

SUPPLEMENTARY INFORMATION: The Indian Gaming Regulatory Act, 25 U.S.C. 2701 et seq., established the National Indian Gaming Commission (Commission), composed of three full-time members. Commission members serve for a term of 3 years. The Chair is appointed by the President with the advice and consent of the Senate. The two associate members are appointed by the Secretary of the Interior. Before appointing an associate member to the Commission, the Secretary is required to “publish in the Federal Register the name and other information the Secretary deems pertinent regarding a nominee for membership on the commission and . . . allow a period of not less than thirty days for receipt of public comments.” 25 U.S.C. 2704(b)(2)(B).

The Secretary proposes to appoint Jonodev Chaudhuri as an associate member of the Commission for a term of 3 years. Mr. Chaudhuri is well qualified to be a member of the National Indian Gaming Commission by virtue of his extensive background and experience in a broad spectrum of Native American issues.

As an attorney in private practice and a judge on four different tribal courts, Mr. Chaudhuri has worked on issues related to gaming, economic development, and social welfare. His work as a community organizer and pro bono counsel for the Native American Community Organizing Project has given him experience with health care, housing, educational, and other social service needs of Native Americans. Mr. Chaudhuri also has years of experience in these areas as a teacher and presenter and further experience as a senior counselor to the Assistant Secretary for Indian Affairs.

Mr. Chaudhuri's wide experience in community service, legal affairs, and organizational administration make him a highly qualified candidate for membership on the National Indian Gaming Commission. His broad perspective as a result of this experience will enrich the Commission's deliberations and contribute to informed decisions that promote economic well-being.

Mr. Chaudhuri does not have any financial interests that would make him ineligible to serve on the Commission under 25 U.S.C. 2704(b)(5)(B) or (C).

Any person wishing to submit comments on this proposed appointment of Jonodev Chaudhuri may submit written comments to the address listed above. Comments must be received by September 3, 2013.

Dated: July 26, 2013.
Sally Jewell,
Secretary.

[FR Doc. 2013-18601 Filed 8-1-13; 8:45 am]

BILLING CODE 4310-10-P